DEPARTMENT OF LABOR

Office of the Secretary

Submission for OMB Review: Comment Request

March 25, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: OMB Desk Officer for the Employment and Training Administration (ETA), Office of Management and Budget, Room 10235, Washington, DC 20503, Telephone: 202-395-7316 / Fax: 202-395-6974 (these are not a toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Application for Permanent Employment Certification.

OMB Control Number: 1205-0451.

Form Number: ETA-9089.

Affected Public: Business or other for-profits.

Estimated Number of Respondents: 120,000.

Estimated Total Annual Burden Hours: 340,585.

Estimated Total Annual Costs Burden: $2,500,000.

Description: The application Form 9089 and other information requirements are necessary to the collection of information from U.S. employers wishing to sponsor foreign labor for permanent residency through the Labor Certification process. The information collected is used by the Secretary of Labor to make the necessary certification in compliance with the Immigration and Nationality Act as amended. The applicable regulations are located at Title 20 CFR Part 656 and Tile 8 CFR 204.5. For additional information, see related notice published at 72 FR 48689 on August 24, 2007.

Darrin A. King,
Acting Departmental Clearance Officer.

[FR Doc. E8-6467 Filed 3-28-08; 8:45 am]

BILLING CODE 4510-FP-P